DEPARTMENT OF THE INTERIOR

Fish and Wildlife Service

[FWS-R8-ES-2018-N059; FXES1114080000-189-FF08ECAR00]

Endangered and Threatened Wildlife and Plants; Coachella Valley Association of Governments Incidental Take Permit Application for Casey's June Beetle and Proposed Low-Effect Habitat Conservation Plan; City of Palm Springs, Riverside County, California

AGENCY: Fish and Wildlife Service, Interior.

ACTION: Notice of availability; request for comments.

SUMMARY: We, the U.S. Fish and Wildlife Service (Service), have received an application from the Coachella Valley Association of Governments (applicant) for a 30-year incidental take permit (permit) under the Endangered Species Act of 1973, as amended (ESA). The application addresses the potential for “take” of the federally endangered Casey's June beetle that is likely to occur incidental to the construction, maintenance, and use of a portion of the CV Link, which is a multi-modal pathway to be built in the City of Palm Springs, Riverside County, California. We invite comments from the public on the application package, which includes a low-effect habitat conservation plan.

DATES: To ensure consideration, please send your written comments by October 5, 2018.

ADDRESSES:

Document availability: You may download a copy of the habitat conservation plan, draft environmental action statement and low-effect screening form, and related documents from the internet at https://www.fws.gov/carlsbad/HCPs/HCP_Docs.html, or you may request copies of the documents by U.S. mail from our Palm Springs office at the address below or by phone (see FOR FURTHER INFORMATION CONTACT).

Comment submission: Please address written comments to Kennon A. Corey, Assistant Field Supervisor, Palm Springs Fish and Wildlife Office, U.S. Fish and Wildlife Service, 777 East Tahquitz Canyon Way, Suite 208, Palm Springs, CA 92262. You may alternatively send comments via electronic mail to fw8psfwocomments@fws.gov or by facsimile to (760) 322-4648.

FOR FURTHER INFORMATION CONTACT: Jenness McBride, Supervisory Fish and Wildlife Biologist, (760) 322-2070.

SUPPLEMENTARY INFORMATION: We have received an application from the Coachella Valley Association of Governments for a 30-year incidental take permit under the ESA. The application addresses the potential for “take” of the federally endangered Casey's June beetle (Dinacoma caseyi) likely to occur incidental to the construction, maintenance, and use of a portion of the proposed CV Link multi-modal pathway in the City of Palm Springs, Riverside County, California. We invite comments from the public on the application package, which includes a low-effect habitat conservation plan (HCP). We have preliminarily determined that this proposed action is eligible for a categorical exclusion under the National Environmental Policy Act of 1969 (NEPA), as amended (42 U.S.C. 4321 et seq.). The basis for this determination is discussed in our draft environmental action statement and associated low-effect screening form, which are also available for public review.

Background

The U.S. Fish and Wildlife Service (Service) added the Casey's June beetle to the List of Endangered and Threatened Wildlife as endangered on September 22, 2011 (76 FR 58954). Section 9 of the ESA (16 U.S.C. 1531 et seq.) and its implementing regulations in title 50 of the Code of Federal Regulations (CFR) prohibit the take of fish or wildlife species listed as endangered or threatened. “Take” is defined under the ESA to include the following activities: “to harass, harm, pursue, hunt, shoot, wound, kill, trap, capture, or collect, or to attempt to engage in any such conduct” (16 U.S.C. 1532); however, under section 10(a)(1)(B) of the ESA, we may issue permits to authorize incidental take of listed species. “Incidental taking” is defined under the ESA implementing regulations as taking that is incidental to, and not the purpose of, carrying out an otherwise lawful activity (50 CFR 17.3). Regulations governing incidental take permits for endangered and threatened species are provided at 50 CFR 17.22 and 17.32, respectively.

In addition to meeting the issuance criteria under section 10(a)(1)(B) of the ESA, actions undertaken through implementation of the HCP must not jeopardize the continued existence of federally listed animal or plant species (16 U.S.C. 1536). If the permit is issued, the permittee will receive assurances under our “No Surprises” regulations (50 CFR 17.22(b)(5) and 17.32(b)(5)).

Applicant's Proposal

The Coachella Valley Association of Governments (applicant) has submitted a low-effect HCP in support of its application for an incidental take permit to address take of the Casey's June beetle that is likely to occur as the result of direct impacts to approximately 1.78 acres of fragmented habitat occupied by the species. Take would be associated with the development of an approximately 2-mile portion of the CV Link, which is a 49-mile-long, paved, multi-modal pathway to be built through the Coachella Valley. Construction of the pathway will increase recreational opportunities for cyclists and pedestrians and provide an alternative transportation corridor for low-speed, neighborhood electric vehicles. This portion of the CV Link would involve widening and repaving existing sidewalks and paths adjacent to patches of habitat occupied by Casey's June beetle in Demuth Park and the nearby Tahquitz Creek Golf Course in the City of Palm Springs. The applicant is requesting a permit for take of Casey's June beetle that would result from activities covered under the HCP related to the CV Link pathway in this area.

The applicant's conservation strategy, in part, proposes to mitigate the impacts to Casey's June beetle by dedicating a conservation easement on approximately 10.38 acres at the Tahquitz Creek Golf Course that would be restored from golf course landscaping to native habitat suitable for Casey's June beetle. A 30-year permit is requested to authorize take that would occur incidental to construction, maintenance, and use of this portion of the CV Link pathway as well as to cover potential short-term impacts within the conservation easement area as a result of habitat enhancement, restoration, and creation activities.

The applicant proposes to avoid, minimize, and mitigate impacts to the Casey's June beetle associated with the covered activities by fully implementing the HCP. The following measures would be implemented:

(1) No construction would occur during the Casey's June beetle flight season (March 1 to May 31);

(2) lighting fixtures would be turned off or non-insect-attracting lights would be used during the flight season;

(3) no electronic “bug zappers” would be used;

(4) up to five educational kiosks would be installed along the pathway;

(5) approximately 10.38 acres of contiguous and nearby mitigation sites pre-selected by the Service, in or adjacent to Palm Canyon Wash at the Tahquitz Creek Golf Course, would be preserved under conservation easement and managed to enhance, restore, and create Casey's June beetle habitat;

(6) mitigation sites would be dedicated to future translocation of Casey's June beetles from other development sites or release of Casey's June beetles from a future Service program for controlled propagation of Casey's June beetles; and

(7) mitigation sites would be monitored and managed by a qualified land management organization approved by the Service.

The Coachella Valley Association of Governments would fund acquisition and initial restoration of the mitigation sites from its Active Transportation Program and would fund a non-wasting endowment in the amount of $160,075 for the long-term management of the mitigation sites.

In the proposed HCP, the applicant considers a “No Project” alternative to the proposed action. Under the “No Project” alternative, a permit for the incidental take of Casey's June beetle would not be issued for the CV Link project and the proposed conservation strategy and subsequent habitat restoration would not occur to assist recovery actions for Casey's June beetle. The “No Project” alternative would not result in upgrading existing sidewalks and paths to CV Link standards at Demuth Park and Tahquitz Creek Golf Course and would not result in conservation for Casey's June beetle; therefore, the applicant did not propose to utilize the “No Project” alternative.

Our Preliminary Determination

The Service has made a preliminary determination that approval of the HCP and issuance of an incidental take permit qualify for categorical exclusion under NEPA, as provided by the Department of the Interior implementing regulations in 43 CFR 46.205, 46.210, and 46.215, and that the HCP qualifies as a “low-effect” plan as defined by the Revised Habitat Conservation Planning Handbook (December 2016).

We base our determination that a HCP qualifies as a low-effect plan on the following three criteria: (1) Implementation of the HCP would result in minor or negligible effects on federally listed, proposed, and/or candidate species and their habitats; (2) implementation of the HCP would result in minor or negligible effects on other environmental values or resources; and (3) impacts of the HCP, considered together with those of other past, present, and reasonably foreseeable similarly situated projects, would not result, over time, in cumulative effects to environmental values or resources that would be considered significant. However, based upon our review of public comments that we receive in response to this notice, this preliminary determination may be revised.

Next Steps

We will evaluate the proposed HCP and comments we receive to determine whether the permit application meets the requirements and issuance criteria under section 10(a) of the ESA. We will also evaluate whether issuance of a section 10(a)(1)(B) permit would comply with section 7(a)(2) of the ESA by conducting an intra-Service consultation. We will use the results of this consultation, in combination with the above findings, in our final analysis to determine whether or not to issue a permit. If the requirements and issuance criteria under section 10(a)(1)(B) are met, we will issue the permit to the applicant for incidental take of Casey's June beetle.

Public Comments

If you wish to comment on the permit application, proposed HCP, and associated documents, you may submit comments by any of the methods noted in ADDRESSES.

Before including your address, phone number, email address, or other personal identifying information in your comment, you should be aware that your entire comment—including your personal identifying information—may be made publicly available at any time. While you can ask us in your comment to withhold your personal identifying information from public view, we cannot guarantee that we will be able to do so.

Authority

We provide this notice under section 10 of the ESA (16 U.S.C. 1531 et seq.) and NEPA (42 U.S.C. 4321 et seq.).

G. Mendel Stewart,
Field Supervisor, Carlsbad Fish and Wildlife Office, Carlsbad, California.

[FR Doc. 2018-19187 Filed 9-4-18; 8:45 am]

BILLING CODE 4333-15-P